DEPARTMENT OF TRANSPORTATION

Surface Transportation Board

[Docket No. AB 279 (Sub-No. 6X)]

Canadian National Railway Company—Abandonment Exemption—in Niagara County, NY

On May 23, 2012, Canadian National Railway Company (CNR) filed with the Surface Transportation Board (Board) a petition under 49 U.S.C. 10502 for exemption from the provisions of 49 U.S.C. 10903 to abandon the entire U.S. portion of its Grimsby Subdivision. The rail line extends from approximately milepost 0.20 to approximately milepost 0.35 in the City of Niagara Falls, Niagara County, N.Y., a distance of 0.15 mile.¹ Specifically, 0.10 mile of the rail line is located on the upper deck of the U.S. portion of the Whirlpool Rapids Bridge.² The remaining 0.05 mile of the rail line consists of single track in Niagara Falls, extending between the eastern end of the Bridge and the beginning of the Niagara Branch of CSX Transportation, Inc. The line traverses United States Postal Service Zip Code 14305.

¹ CNR states that its Grimsby Subdivision lies partly in Canada and partly in the United States. The U.S. portion of the Subdivision is one of only a few CNR segments that extend briefly into the United States and that are owned and operated by CNR, rather than by one of CNR's U.S. operating affiliates.

² The Whirlpool Rapids Bridge is an international rail/highway bridge that crosses the Niagara River between Niagara Falls, N.Y., and Niagara Falls, Ontario, Canada, and is owned by the bi-national Niagara Falls Bridge Commission.

In addition to an exemption from the provisions of 49 U.S.C. 10903, CNR seeks exemption from 49 U.S.C. 10904 (offer of financial assistance (OFA) procedures) and 49 U.S.C. 10905 (public use conditions). In support, CNR states that, upon consummation of the abandonment authority it seeks, the line is expected to be used for continued rail passenger service as part of Niagara Falls' plans to develop enhanced rail passenger and intermodal service, and that there is no overriding public need for continued freight rail service. CNR also seeks expedited action in this proceeding. CNR states that expedited handling is being requested so that Federal funding for the proposed Niagara Falls International Railway Station and International Transportation Center may be released in time to permit construction during the 2012 construction season. These requests will be addressed in the final decision.

According to CNR, the line does not contain Federally granted rights-of-way. Any documentation in CNR's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by September 10, 2012.

Any OFA under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than July 2, 2012. Each trail use request must be accompanied by a $250 filing fee. See 49 CFR 1002.2(f)(27).

All filings in response to this notice must refer to Docket No. AB 279 (Sub-No.6X), and must be sent to: (1) Surface Transportation Board, 395 E Street SW., Washington, DC 20423-0001; and (2) David A. Hirsh, Harkins Cunningham LLP, 1700 K Street NW., Suite 400, Washington, DC 20006. Replies to CNR's petition are due on or before July 2, 2012.

Persons seeking further information concerning abandonment procedures may contact the Board's Office of Public Assistance, Governmental Affairs, and Compliance at (202) 245-0238 or refer to the full abandonment or discontinuance regulations at 49 CFR pt. 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA will generally be within 30 days of its service.

Board decisions and notices are available on our Web site at “WWW.STB.DOT.GOV.”

Decided: June 7, 2012.
By the Board, Rachel D. Campbell, Director, Office of Proceedings.
Raina S. White,
Clearance Clerk.

[FR Doc. 2012-14254 Filed 6-11-12; 8:45 am]

BILLING CODE 4915-01-P